DEPARTMENT OF ENERGY

Federal Energy Regulatory Commission

Combined Notice of Filings #1

August 22, 2006.

Take notice that the Commission received the following electric corporate filings:

Docket Numbers: EC05-43-000.

Applicants: Public Service Enterprise Group Incorporated.

Description: Exelon Corp and Public Service Enterprise Group Inc. file an amendment to an interim fossil mitigation commitment in connection with the proposed merger.

Filed Date: 08/10/2006.

Accession Number: 20060810-5001.

Comment Date: 5 p.m. Eastern Time on Tuesday, September 5, 2006.

Docket Numbers: EC06-152-000.

Applicants: WPS Resources Corporation; Peoples Energy Corporation.

Description: WPS Resources Corporation and Peoples Energy Corporation submit their Joint Application for all required authorizations and approvals under section 203 of the Federal Power Act to effect the proposed merger transaction.

Filed Date: 08/15/2006.

Accession Number: 20060818-0169.

Comment Date: 5 p.m. Eastern Time on Tuesday, September 05, 2006.

Docket Numbers: EC06-153-000.

Applicants: BG Dighton Power, LLC; Dighton Power Associates Ltd Partnership.

Description: Dighton Power Associates Ltd Partnership & BG Dighton Power, LLC submit a joint application for sec 203 approval that may be deemed to be required for DPA's sale & BG Dighton's purchase of approximately 170 NM natural gas-fired combined-cycle electric generation plant etc.

Filed Date: 08/15/2006.

Accession Number: 20060817-0054.

Comment Date: 5 p.m. Eastern Time on Tuesday, September 05, 2006.

Docket Numbers: EC06-154-000.

Applicants: Northeast Generation Company; Holyoke Water Power Company; NU Enterprises, Inc.; Select Energy, Inc.; NE Energy, Inc.; Mt. Tom Generating Company LLC; ECP Energy, LLC.

Description: Northeast Generation Co, Holyoke Water Power Co, et al. submit an application for authorization of transaction under section 203 of the Federal Power Act and request waivers of filing requirements etc.

Filed Date: 08/15/2006.

Accession Number: 20060817-0055.

Comment Date: 5 p.m. Eastern Time on Tuesday, September 05, 2006.

Take notice that the Commission received the following exempt wholesale generator filings:

Docket Numbers: EG06-72-000.

Applicants: Mt. Tom Generating Company LLC.

Description: Mt Tom Generating Co, LLC submits a notice of self-certification of exempt wholesale generator status re facilities in Holyoke, MA.

Filed Date: 08/15/2006.

Accession Number: 20060817-0139.

Comment Date: 5 p.m. Eastern Time on Tuesday, September 05, 2006.

Docket Numbers: EG06-73-000.

Applicants: BG Dighton Power, LLC.

Description: BG Dighton Power, LLC submits a notice of self-certification of exempt wholesale generator status pursuant to the Public Utility Holding Company Act of 2005.

Filed Date: 08/15/2006.

Accession Number: 20060817-0140.

Comment Date: 5 p.m. Eastern Time on Tuesday, September 05, 2006.

Take notice that the Commission received the following electric rate filings:

Docket Numbers: ER99-2948-009; ER00-2918-008; ER00-2917-008; ER05-261-005; ER01-558-007; ER01-559-007; ER01-557-007; ER01-560-007; ER01-556-007; ER01-1654-010; ER01-2641-008; ER02-2567-008; ER05-728-005; ER01-1949-008; ER04-485-005.

Applicants: Baltimore Gas & Electric Company; Constellation Power Source Generation, Inc.; Calvert Cliffs Nuclear Power Plant, Inc.; Constellation Energy Commodities Group, Inc.; Holland Energy, LLC; Wolf Hills Energy, LLC; University Park Energy, LLC; Big Sandy Peaker Plant, LLC; Handsome Lake Energy, LLC; Nine Mile Point Nuclear; High Desert Power Project, LLC; Constellation NewEnergy, Inc.; Constellation Energy Commodities Group Maine, LLC; Power Provider LLC; R.E. Ginna Nuclear Power Plant, LLC.

Description: The Constellation MBR Entities submit an errata to their joint triennial market power update submitted on 8/14/06.

Filed Date: 08/16/2006.

Accession Number: 20060817-0224.

Comment Date: 5 p.m. Eastern Time on Wednesday, September 06, 2006.

Docket Numbers: ER00-565-020; ER97-2358-009; ER04-1233-008.

Applicants: Pacific Gas & Electric Company.

Description: Pacific Gas and Electric Company submits its Scheduling Coordinator Services Tariff Refund Report.

Filed Date: 08/16/2006.

Accession Number: 20060816-5027.

Comment Date: 5 p.m. Eastern Time on Wednesday, September 06, 2006.

Docket Numbers: ER01-1807-023; ER01-2020-020.

Applicants: Carolina Power & Light Company.

Description: Carolina Power & Light Company submits an Energy Imbalance Revenues Refund Report pursuant to Commission's 5/23/03 order.

Filed Date: 08/14/2006.

Accession Number: 20060814-5004.

Comment Date: 5 p.m. Eastern Time on Tuesday, September 05, 2006.

Docket Numbers: ER04-810-002.

Applicants: TransAlta Centralia Generating L.L.C.

Description: TransAlta Centralia Generation, LLC submits its compliance filing to inform the FERC that the Parties have recalculated and agreed to a revised service factor beginning 10/1/06 etc., pursuant to sections D.14 and D.15 of the Settlement Agreement.

Filed Date: 08/15/2006.

Accession Number: 20060817-0007.

Comment Date: 5 p.m. Eastern Time on Tuesday, September 05, 2006.

Docket Numbers: ER05-1050-002.

Applicants: AmerGen Energy Company LLC.

Description: AmerGen Energy Company, LLC submits a revised version of their FERC Electric Rate Schedule No. 6.

Filed Date: 07/27/2006.

Accession Number: 20060731-0168.

Comment Date: 5 p.m. Eastern Time on Tuesday, September 5, 2006.

Docket Numbers: ER06-993-001.

Applicants: Orion Power MidWest, L.P.

Description: Orion Power MidWest, LP submits its response to the deficiency letter issued 7/13/06.

Filed Date: 08/14/2006.

Accession Number: 20060817-0072.

Comment Date: 5 p.m. Eastern Time on Tuesday, September 05, 2006.

Docket Numbers: ER06-1006-001.

Applicants: International Transmission Company; Midwest Transmission System Operator, Inc.

Description: International Transmission Co et al. submit Substitute Original Sheet 1365Z.05A et al. to its Electric Tariff, Third Revised Volume No. 1 to be effective 7/1/06.

Filed Date: 08/14/2006.

Accession Number: 20060816-0089.

Comment Date: 5 p.m. Eastern Time on Tuesday, September 05, 2006.

Docket Numbers: ER06-1124-001.

Applicants: Kentucky Utilities Company.

Description: Kentucky Utilities submits the final notice of cancellation of the Interconnection Agreement w/Eastern Kentucky Power Cooperative, effective 8/31/06.

Filed Date: 08/16/2006.

Accession Number: 20060818-0082.

Comment Date: 5 p.m. Eastern Time on Wednesday, September 06, 2006.

Docket Numbers: ER06-1223-001.

Applicants: Fairchild Energy, LLC.

Description: Fairchild Energy, LLC submits it amended Electric Tariff, Original Volume No. 1, to become effective 7/5/06.

Filed Date: 08/16/2006.

Accession Number: 20060818-0124.

Comment Date: 5 p.m. Eastern Time on Tuesday, August 29, 2006.

Docket Numbers: ER06-1310-001.

Applicants: PJM Interconnection, L.L.C.

Description: PJM Interconnection LLC submits an amendment to its 7/31/06 filing of an agreement for network integration transmission service with American Electric Power Service Co. et al.

Filed Date: 08/14/2006.

Accession Number: 20060816-0088.

Comment Date: 5 p.m. Eastern Time on Tuesday, September 05, 2006.

Docket Numbers: ER06-1351-000.

Applicants: BP West Coast Products LLC.

Description: BP West Coast Products, LLC submits a Notice of Succession in order to request that the Commission re-designate the name appearing on its market-based rate tariff.

Filed Date: 08/10/2006.

Accession Number: 20060811-0228.

Comment Date: 5 p.m. Eastern Time on Thursday, August 31, 2006.

Docket Numbers: ER06-1353-000.

Applicants: Duke Power Company LLC.

Description: Duke Power Company, LLC submits a non-conforming Long-Term Transmission Service Agreement w/ North Carolina Municipal Power Agency 1.

Filed Date: 08/11/2006.

Accession Number: 20060814-0207.

Comment Date: 5 p.m. Eastern Time on Friday, September 01, 2006.

Docket Numbers: ER06-1361-000.

Applicants: Tampa Electric Company.

Description: Tampa Electric Co submits a Notice of Cancellation of its Contract for Sale and Purchase of Capacity and Energy with Florida Power & Light Co. dated 9/10/79.

Filed Date: 08/14/2006.

Accession Number: 20060816-0063.

Comment Date: 5 p.m. Eastern Time on Tuesday, September 05, 2006.

Docket Numbers: ER06-1366-000.

Applicants: Northeast Utilities Service Company; Holyoke Water Company; Holyoke Power and Electric Company.

Description: Northeast Utilities Service Co. on behalf of Holyoke Water Power Co. and Holyoke Power & Electric Co. submits a revised tariff sheet and notice of cancellation to cancel First Revised Rate Schedule FPC #2.

Filed Date: 08/15/2006.

Accession Number: 20060817-0002.

Comment Date: 5 p.m. Eastern Time on Tuesday, September 05, 2006.

Docket Numbers: ER06-1367-000.

Applicants: BG Dighton Power, LLC.

Description: BG Dighton Power, LLC submits a proposed rate schedule under which they will have the authority to make market based wholesale sales of electric energy & capacity.

Filed Date: 08/15/2006.

Accession Number: 20060817-0006.

Comment Date: 5 p.m. Eastern Time on Tuesday, September 05, 2006.

Docket Numbers: ER06-1368-000.

Applicants: Entergy Services Inc.

Description: Entergy Services, Inc agent for Entergy Operating Companies et al submits a mutually-executed Dynamic Transfer Operating Agreement pursuant to section 205 of the Federal Power Act.

Filed Date: 08/15/2006.

Accession Number: 20060817-0008.

Comment Date: 5 p.m. Eastern Time on Tuesday, September 05, 2006.

Docket Numbers: ER06-1369-000.

Applicants: San Diego Gas & Electric Company.

Description: San Diego Gas & Electric Co submits the Cycle 4 filing with a proposed effective date of 9/1/06.

Filed Date: 08/15/2006.

Accession Number: 20060822-0016.

Comment Date: 5 p.m. Eastern Time on Tuesday, September 05, 2006.

Docket Numbers: ER06-1370-000.

Applicants: Southern Company Services, Inc.

Description: Southern Company Services, Inc agent for Alabama Power Co et al. submits an initial Transmission Service Agreement for long-term firm point-to-point transmission service under the Open Access Transmission Tariff.

Filed Date: 08/16/2006.

Accession Number: 20060818-0080.

Comment Date: 5 p.m. Eastern Time on Wednesday, September 06, 2006.

Docket Numbers: ER06-1371-000.

Applicants: Southern California Edison Company.

Description: Southern California Edison Co submits a revised rate sheet for FERC Rate Schedule 272 w/ the city of Vernon, California.

Filed Date: 08/16/2006.

Accession Number: 20060818-0081.

Comment Date: 5 p.m. Eastern Time on Wednesday, September 06, 2006.

Docket Numbers: ER06-1373-000.

Applicants: Southwest Power Pool, Inc.

Description: Southwest Power Pool, Inc submits revised pages to its Open Access Transmission Tariff intended to implement a rate change for Westar Energy, Inc.

Filed Date: 08/16/2006.

Accession Number: 20060818-0083.

Comment Date: 5 p.m. Eastern Time on Wednesday, September 06, 2006.

Docket Numbers: ER06-1374-000.

Applicants: PJM Interconnection, LLC.

Description: PJM Interconnection, LLC submits an executed Construction Service Agreement with Benson Wind Farm, LLC et al pursuant to section 205 of the Federal Power Act.

Filed Date: 08/16/2006.

Accession Number: 20060818-0084.

Comment Date: 5 p.m. Eastern Time on Wednesday, September 06, 2006.

Docket Numbers: ER06-1375-000.

Applicants: Lumberton Power, LLC.

Description: Lumberton Power, LLC submits an application for order approving market based rates and request for waiver of 60-day notice period.

Filed Date: 08/17/2006.

Accession Number: 20060818-0126.

Comment Date: 5 p.m. Eastern Time on Thursday, September 07, 2006.

Docket Numbers: ER06-1376-000.

Applicants: Elizabethtown Power, LLC.

Description: Elizabethtown Power LLC submits an application for an order approving market based rates and requests for waiver of 60-Day notice period pursuant to section 205.

Filed Date: 08/17/2006.

Accession Number: 20060818-0125.

Comment Date: 5 p.m. Eastern Time on Thursday, September 07, 2006.

Take notice that the Commission received the following electric securities filings:

Docket Numbers: ES06-60-000.

Applicants: MDU Resources Group, Inc.

Description: MDU Resources Group, Inc submits its application for authorization to issue up to $750,000,000 worth of its securities and authorization to engage in methods of issuance other than competitive bidding and negotiated offers.

Filed Date: 08/15/2006.

Accession Number: 20060817-0005.

Comment Date: 5 p.m. Eastern Time on Tuesday, September 05, 2006.

Take notice that the Commission received the following public utility holding company filings:

Docket Numbers: PH06-104-000; HC06-1-000.

Applicants: Consolidated Midwest, Inc; Midwest Bottle Gas Co.

Description: Consolidated Midwest Inc and Midwest Bottle Gas Co submits a notice of Holding Co Status and Notice of Waiver pursuant to the PUHCA and 18 CFR section 366.1.

Filed Date: 08/09/2006.

Accession Number: 20060815-0038.

Comment Date: 5 p.m. Eastern Time on Wednesday, August 30, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive E-mail notification when a document is added to a subscribed dockets(s). For assistance with any FERC Online service, please E-mail FERCOnlineSupport@ferc.gov. or call (866) 208-3676 (toll free). For TTY, call (202) 502-8659.

Magalie R. Salas,
Secretary.

[FR Doc. E6-14388 Filed 8-29-06; 8:45 am]

BILLING CODE 6717-01-P